DEPARTMENT OF ENERGY

Federal Energy Regulatory Commission

[Docket No. QF08-110-000]

Tiqun Energy, Inc.; Notice of Filing of Notice of Self-Certification of Qualifying Status of a Cogeneration Facility

December 7, 2007.

Take notice that on December 6, 2007, Tiqun Energy, Inc. filed with the Federal Energy Regulatory Commission a notice of self-certification of a facility as a qualifying cogeneration facility pursuant to 18 CFR 292.207(a) of the Commission's regulations.

The facility is a cogeneration facility with the primary energy source being natural gas. The production equipment will consist of two GE LM 6000 PF Sprint gas turbine generators each with a duct-fired heat recovery steam generator driving a steam turbine generator for a total net output capacity of 140 MWe. The facility will be located in Anchorage, Alaska.

Chugach Electric Association, Inc. and Anchorage Municipal Light & Power are the electric utilities with which the facility expects to interconnect, transmit or sell electric energy to, or purchase supplementary, standby, back-up and maintenance power.

A notice of self-certification does not institute a proceeding regarding qualifying facility status; a notice of self-certification provides notice that the entity making the filing has determined the facility meets the applicable criteria to be a qualifying facility. Any person seeking to challenge such qualifying facility status may do so by filing a motion pursuant to 18 CFR 292.207(d)(iii).

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Kimberly D. Bose,
Secretary.

[FR Doc. E7-24248 Filed 12-13-07; 8:45 am]

BILLING CODE 6717-01-P